AFRICAN DEVELOPMENT FOUNDATION

Board of Directors Meeting

Meeting: African Development Foundation, Board of Directors Meeting.

Time: Tuesday, February 1, 2011, 2010, 8:30 a.m. to 12:30 p.m.

Place: African Development Foundation, Conference Room, 1400 I Street, NW., Suite 1000, Washington, DC 20005.

Date: Tuesday, February 1, 2011.

Status:

1. Open session, Tuesday, February 1, 2011, 8:30 a.m. to 11:30 a.m.; and

2. Closed session, Tuesday, February 1, 2011, 11:30 a.m. to 12:30 p.m.

Due to security requirements and limited seating, all individuals wishing to attend the open session of the meeting must notify Michele M. Rivard at (202) 673-3916 or mrivard@usadf.gov of your request to attend by 5 p.m. on Thursday, January 27, 2011.

Lloyd O. Pierson,
President & CEO, USADF.

[FR Doc. 2011-1430 Filed 1-24-11; 8:45 am]

BILLING CODE P